DEPARTMENT OF DEFENSE

Office of the Secretary

Proposed Collection; Comment Request

AGENCY: Office of the Under Secretary of Defense (Personnel and Readiness), DoD.

ACTION: Notice.

In compliance with section 3506(c)(2)(A) of the Paperwork Reduction Act of 1995, the Office of the Under Secretary of Defense (Personnel and Readiness) announces the following proposed reinstatement of a public information collection and seeks public comment on the provisions thereof. Comments are invited on: (a) Whether the proposed collection of information is necessary for the proper performance of the functions of the agency, including whether the information shall have practical utility; (b) the accuracy of the agency's estimate of burden of the proposed information collection; (c) ways to enhance the quality, utility, and clarity of the information to be collected; and (d) ways to minimize the burden of the information collection on respondents, including through the use of automated collection techniques or other forms of information technology.

DATES: Consideration will be given to all comments received by November 10, 2003.

ADDRESSES: Written comments and recommendations on the proposed information collection should be sent to the Office of the Under Secretary of Defense (Personnel and Readiness), ODUSD (PI)/Defense Human Resources Activity, ATTN: Ms. Heidi Boyd, 4040 Fairfax Boulevard, Suite 200, Arlington VA 22203.

FOR FURTHER INFORMATION CONTACT: To request more information on this proposed information collection or to obtain a copy of the proposal and associated collection instruments, please write to the above address or call (703) 696-0404.

Title, Associated Form and OMB Control Number: Application for Department of Defense Common Access Card—DEERS Enrollment, DD Form 1172-2 OMB Number 0704-0415.

Needs and Uses: This information collection requirement is needed to obtain the necessary data to establish eligibility for the DoD Common Access Card for those individuals not pre-enrolled in the DEERS, and to maintain a centralized database of eligible individuals. This information is used to establish eligibility for the DoD Common Access Card for individuals either employed by or associated with the Department of Defense; is used to control access to DoD facilities and systems; and it provides a source of data for demographic reports and mobilization dependent support.

Affected Public: Individuals or households.

Annual Burden Hours: 100,000.

Number of Respondents: 300,000.

Responses Per Respondent: 1.

Average Burden Per Response: 20 minutes.

Frequency: On occassion.

SUPPLEMENTARY INFORMATION:

Summary of Information Collected

The Department of Defense, over the past three years, has been taking requisite measures to enhance physical and information security and applying prudent countermeasures for all potential vulnerabilities focusing on security actions to address the changes in today's threat environment. The Assistant Secretary of Defense for Command, Control, Communications and Intelligence (C3I) August 12, 2000 memorandum, Subject: Department of Defense (DoD) Public Key Infrastructure (PKI), directed use of a common, integrated, interoperable DoD PKI to enable security services at multiple levels of assurance. PKI is a key and certificate management infrastructure designed to support confidentiality, integrity, availability, authorization, and access control in computer networks. It is imperative to the security of the nation's defense that the systems of the Department of Defense be PKI-enabled as soon as possible. This data collection is essential to the effort to prohibit access to the Departments' systems to those not authorized. Public Law 106-65, Section 373 directed the Department to develop and implement a Smart Card program for the DoD. The Deputy Secretary of Defense November 10, 1999 memorandum, Subject: Smart Card Adoption and Implementation, directed the Department to implement smart card technology as a Department-wide Common Access Card (CAC) that shall be the standard ID card for active duty Uniformed Services personnel (to include the Selected Reserve), DoD civilian employees, and eligible contractor personnel. The CAC will be the principal card used to (1) enable physical access to buildings and controlled spaces and (2) gain access to the Department's computer networks and systems. Further guidance was provided in the USD (Personnel and Readiness) and DoD CIO April 18, 2002 joint memorandum to allow non-DoD federal employees requiring logical access to become eligible for the CAC. The Deputy Secretary directed the CAC be issued and maintained using the infrastructure provided by the Defense Enrollment Eligibility Reporting System (DEERS) and the Realtime Automated Personnel Identification System (RAPIDS). Initial implementation of the CAC began December 2000 and mass issuance is scheduled to be complete by April 2004.

This information collection is required to obtain the necessary data to establish eligibility for the CAC for those individuals not pre-enrolled in the DEERS, and to maintain a centralized database of eligible individuals.

Dated: September 2, 2003.
Patricia L. Toppings,
Alternate OSD Federal Register Liaison Officer, Department of Defense.

[FR Doc. 03-22900 Filed 9-8-03; 8:45 am]

BILLING CODE 5001-08-M